NATIONAL FOUNDATION FOR THE ARTS AND THE HUMANITIES

National Endowment for the Arts; National Council on the Arts 140th Meeting

Pursuant to section 10 (a)(2) of the Federal Advisory Committee Act (Public Law 92-463), as amended, notice is hereby given that a meeting of the National Council on the Arts will be held on July 20, 2000 from 2:00 p.m.—5:00 p.m. in Room 527 and on July 21, 2000 from 9:00 a.m. to 4:00 p.m. in Room M-09 at the Nancy Hanks Center, 1100 Pennsylvania Avenue, NW., Washington, DC 20506.

The Council will meet in closed session on July 20, from 2:00 to 5:00 p.m. for discussion of National Medal of Arts nominations. In accordance with the determination of the Chairman of May 12, 2000, this session will be closed to the public pursuant to subsection (c)(4),(6) and (9)(B) of section 552b of Title 5, United States Code. The remainder of the meeting, from 9:00 a.m. to 4:00 p.m. on July 21, will be open to the public on a space available basis. Following opening remarks and announcements, there will be a Congressional update and an update on the FY 2001 budget. Other discussions tentatively include: a progress report on Millennium projects, including a report and performance on “Continental Harmony;” presentations on The Arts & Technology, including a keynote address by Morton Subotnick, presentations by author Douglas Rushkoff, architect Hani Rashid, and curator Sara Rogers, and grantee presentations from Open Studio/Seattle Art Museum and Lost and Found Sound. Other topics will include Application Review; Challenge America, ArtsREACH, Creative Links, and New Public Works/Design Initiative guidelines; and general discussion.

If, in the course of discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: June 21, 2000.
Kathy Plowitz-Worden,
Panel Coordinator, Office of Guidelines and Panel Operations.

[FR Doc. 00-16199 Filed 6-26-00; 8:45 am]

BILLING CODE 7537-01-M